CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Interest Payment Form/AmeriCorps—Manual Interest Payment Request Form for review and approval in accordance with the Paperwork Reduction Act of 1995, Public Law 104-13, (44 U.S.C. Chapter 35). Copies of this ICR, with applicable supporting documentation, may be obtained by calling the Corporation for National and Community Service, Nahid Jarrett, at 202-606-6753 or email to njarrett@cns.gov. Individuals who use a telecommunications device for the deaf (TTY-TDD) may call 1-800-833-3722 between 8:00 a.m. and 8:00 p.m. Eastern Time, Monday through Friday.

DATES: Comments may be submitted, identified by the title of the information collection activity, within July 5, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 10, 2016, at 81 FR 12719. This comment period ended May 9, 2016. No public comments were received from this Notice.

Description: CNCS seeks to renew the current information collection request. After an AmeriCorps member completes a period of national and community service, the individual receives an education award that can be used to pay against qualified student loans or pay for current post-secondary educational expenses. AmeriCorps members use the AmeriCorps Interest Payment Form/AmeriCorps—Manual Interest Payment Request Form to request a payment of accrued interest on qualified student loans and to authorize the release of loan information to the National Service Trust; schools and lenders verify eligibility for the payments; and both parties verify certain legal requirements.

Type of Review: Renewal.

Agency: Corporation for National and Community Service.

Title: AmeriCorps Interest Payment Form/AmeriCorps—Manual Interest Payment Request Form.

OMB Number: 3045-0053.

Agency Number: None.

Affected Public: AmeriCorps Members/Alum that have completed a term of national service who seek to have the interest that has accrued on their qualified student loans during their service term repaid and qualified loan servicers.

Total Respondents: 13,200.

Frequency: One or more per education award.

Average Time per Response: Averages 5 minutes.

Estimated Total Burden Hours: 1,100.

Total Burden Cost (capital/startup): None.

Total Burden Cost (operating/maintenance): None.

Dated: May 25, 2016.
Maggie Taylor-Coates,
Chief of Trust Operations.

[FR Doc. 2016-13048 Filed 6-1-16; 8:45 am]

BILLING CODE 6050-28-P